DEPARTMENT OF TRANSPORTATION

Federal Aviation Administration

14 CFR Part 39

[Docket No. FAA-2005-20350; Directorate Identifier 2004-NM-202-AD; Amendment 39-14223; AD 2005-17-02]

RIN 2120-AA64

Airworthiness Directives; Boeing Model 777-200 and -300 Series Airplanes

AGENCY: Federal Aviation Administration (FAA), Department of Transportation (DOT).

ACTION: Final rule.

SUMMARY: The FAA is adopting a new airworthiness directive (AD) for certain Boeing Model 777-200 and -300 series airplanes. This AD requires inspecting the valve control and indication wire bundles of the fuel system of the wing rear spar for discrepancies, and corrective action if necessary. This AD is prompted by reports of six incidents of the wire bundles chafing against the rear spar stiffeners outside the fuel tank. We are issuing this AD to prevent this chafing, which could result in wire damage leading to a short circuit, subsequent ignition of flammable vapors, and possible uncontrollable fire during fueling or flight.

DATES: This AD becomes effective September 26, 2005.

The incorporation by reference of a certain publication listed in the AD is approved by the Director of the Federal Register as of September 26, 2005.

ADDRESSES: For service information identified in this AD, contact Boeing Commercial Airplanes, P.O. Box 3707, Seattle, Washington 98124-2207.

Docket: The AD docket contains the proposed AD, comments, and any final disposition. You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2005-20350; the directorate identifier for this docket is 2004-NM-202-AD.

FOR FURTHER INFORMATION CONTACT: Georgios Roussos, Systems and Equipment Branch, ANM-130S, FAA, Seattle Aircraft Certification Office, 1601 Lind Avenue, SW., Renton, Washington 98055-4056; telephone (425) 917-6482; fax (425) 917-6590.

SUPPLEMENTARY INFORMATION: The FAA proposed to amend 14 CFR part 39 with an AD for certain Boeing Model 777-200 and -300 series airplanes. That action, published in the Federal Register on February 15, 2005 (70 FR 7681), proposed to require inspecting the valve control and indication wire bundles of the fuel system of the wing rear spar for discrepancies, and corrective action if necessary.

Comments

We provided the public the opportunity to participate in the development of this AD. We have considered the comments that have been submitted on the proposed AD.

Support for Proposed AD

One commenter, the airplane manufacturer, concurs with the content of the proposed AD. Another commenter states that it has done the inspection specified in the service information referenced in the proposed AD on all of its Model 777-200 series airplanes.

Request for Clarification of Inconsistencies in Referenced Service Information

One commenter concurs with the intent of the proposed AD, but points out some inconsistencies found in the Accomplishment Instructions of the referenced service bulletin. The commenter states that the service bulletin specifies leaving the wire bundle intact, according to the original factory installation, if the inspection does not reveal any wire chafing; however, the service bulletin also specifies modifying the wire bundle routing by installing additional new hardware, such as spacers, if any chafing is found.

The commenter also states that the intent of the proposed AD is to make sure that there is no wire chafing against the structure. The commenter believes that there will potentially be two different aircraft configurations if the modification is required. The commenter states that the configuration with no spacers may cause the wire bundle to rub against the structure in the future. The commenter adds that, without spacers installed, there is no way to positively prove in the future that the proposed AD was complied with in the past. The commenter prefers to modify the wire bundle routing (adding new spacers) even if there is currently no chafing found, in order to keep common configuration within the fleet and prevent potential problems in the future.

We infer that the commenter is asking for clarification about its perceived inconsistencies in the referenced service bulletin. We agree. The service bulletin describes procedures for inspecting the wire bundles in the wing rear spar for three discrepancies (i.e., wire chafing, wire damage, and any missing spacer at each of the five clamping points). The commenter believes there are only two discrepancies (i.e., wire chafing and wire damage). As a result, the commenter's statement that the wire bundle is left intact if the inspection does not reveal any wire chafing is incorrect. There are two conditions that need to be met for the wire bundle to be “left intact.” The service bulletin specifies “if no wire bundle damage or chafing is found” and “if the wire bundle routing is in compliance, no more action is required.” Wire bundle routing compliance is defined in the service bulletin as “at least one spacer is found installed at each of the five clamping points.” In addition, the service bulletin specifies “if no chafing or damage is found” and “if the wire bundle routing is not in compliance, make a modification to the wire bundle routing.” The modification involves installing a spacer, screw, clip nut, and clamp, as applicable, at any clamping point with no spacer. Accomplishing the actions specified in the service information is intended to adequately address the unsafe condition of this AD (i.e., wire chafing and damage).

In addition, we do not agree with the commenter's statement there is no way to positively prove in the future that the AD was complied with in the past. Compliance with an AD is documented in the permanent records of the affected airplanes and can be audited by a principal maintenance inspector. Therefore, we have made no change to the AD in these regards.

Conclusion

We have carefully reviewed the available data, including the comments that have been submitted, and determined that air safety and the public interest require adopting the AD as proposed.

Costs of Compliance

There are about 403 airplanes of the affected design in the worldwide fleet. This AD will affect about 129 airplanes of U.S. registry. The inspection will take about 1 work hour per airplane, at an average labor rate of $65 per work hour. Based on these figures, the estimated cost of the inspection for U.S. operators is $8,385, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2005-17-02 Boeing: Amendment 39-14223. Docket No. FAA-2005-20350; Directorate Identifier 2004-NM-202-AD.

Effective Date

(a) This AD becomes effective September 26, 2005.

Affected ADs

(b) None.

Applicability

(c) This AD applies to Boeing Model 777-200 and -300 series airplanes, certificated in any category; as identified in Boeing Special Attention Service Bulletin 777-28-0033, dated August 14, 2003.

Unsafe Condition

(d) This AD was prompted by reports of six incidents of the valve control and indication wire bundles of the fuel system chafing against the rear spar stiffeners outside the fuel tank. We are issuing this AD to prevent this chafing, which could result in wire damage leading to a short circuit, subsequent ignition of flammable vapors, and possible uncontrollable fire during fueling or flight.

Compliance

(e) You are responsible for having the actions required by this AD performed within the compliance times specified, unless the actions have already been done.

Detailed Inspection/Corrective Action

(f) Within 18 months after the effective date of this AD: Do a detailed inspection of the valve control and indication wire bundles of the fuel system of the wing rear spar for discrepancies (including any applicable corrective action), by doing all the actions specified in the Accomplishment Instructions of Boeing Special Attention Service Bulletin 777-28-0033, dated August 14, 2003. Any applicable corrective action must be done before further flight. Part number (P/N) BACC10GU105P, shown in the part list table of Kit 005W3225 and in the step tables in Figures 3 and 4 of the Accomplishment Instructions of the service bulletin, is not a valid P/N; the correct P/N that must be used is P/N BACC10JU105P.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(g) The Manager, Seattle Aircraft Certification Office, FAA, has the authority to approve AMOCs for this AD, if requested in accordance with the procedures found in 14 CFR 39.19.

Material Incorporated by Reference

(h) You must use Boeing Special Attention Service Bulletin 777-28-0033, dated August 14, 2003, to perform the actions that are required by this AD, unless the AD specifies otherwise. The Director of the Federal Register approves the incorporation by reference of this document in accordance with 5 U.S.C. 552(a) and 1 CFR part 51. To get copies of the service information, contact Boeing Commercial Airplanes, P.O. Box 3707, Seattle, Washington 98124-2207. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal_register/code_of_federal_regulations/ibr_locations.html.

Issued in Renton, Washington, on August 10, 2005.
Kalene C. Yanamura,
Acting Manager, Transport Airplane Directorate, Aircraft Certification Service.

[FR Doc. 05-16265 Filed 8-19-05; 8:45 am]

BILLING CODE 4910-13-P